DEPARTMENT OF TRANSPORTATION

Federal Aviation Administration

Receipt of Noise Compatibility Program and Request for Review; Hartsfield-Jackson Atlanta International Airport, Atlanta, GA

AGENCY: Federal Aviation Administration, DOT.

ACTION: Notice.

SUMMARY: The Federal Aviation Administration (FAA) announces that it is reviewing a proposed Noise Compatibility Program that was submitted for Hartsfield-Jackson Atlanta International Airport under the provisions of 49 U.S.C. 47504 et. seq (the Aviation Safety and Noise Abatement Act hereinafter referred to as “the Act”) and 14 CFR part 150 by the City of Atlanta, Georgia. This program was submitted subsequent to a determination by FAA that the associated Noise Exposure Maps submitted under 14 CFR part 150 for Hartsfield-Jackson Atlanta International Airport were in compliance with applicable requirements effective April 10, 2007, and was published in the Federal Register on April 23, 2007. The proposed Noise Compatibility Program will be approved or disapproved on or before March 4, 2008.

DATES: Effective Date: The effective date of the start of FAA's review of the associated noise compatibility program is September 7, 2007. The public comment period ends November 6, 2007.

FOR FURTHER INFORMATION CONTACT: Scott L. Seritt, Federal Aviation Administration, Atlanta Airports District Office, 1701 Columbia Avenue, Suite 2-260, College Park, Georgia 30337, 404-305-7150. Comments on the proposed noise compatibility program should also be submitted to the above office.

SUPPLEMENTARY INFORMATION: This notice announces that the FAA is reviewing a proposed Noise Compatibility Program for Hartsfield-Jackson Atlanta International Airport which will be approved or disapproved on or before March 4, 2008. This notice also announces the availability of this program for public review and comment.

An airport operator who has submitted Noise Exposure Maps that are found by FAA to be in compliance with the requirements of 14 CFR part 150, promulgated pursuant to the Act, may submit a Noise Compatibility Program for FAA approval which sets forth the Measures the operator has taken or proposes to reduce existing non-compatible uses and prevent the introduction of additional non-compatible uses.

The FAA has formally received the Noise Compatibility Program for Hartsfield-Jackson Atlanta International Airport, effective on September 7, 2007. The airport operator has requested that the FAA review this material and that the noise mitigation measures, to be implemented jointly by the airport and surrounding communities, be approved as a Noise Compatibility Program under section 47504 of the Act. Preliminary review of the submitted material indicates that it conforms to the requirements for the submittal of Noise Compatibility Programs, but that further review will be necessary prior to approval or disapproval of the program. The formal review period, limited by law to a maximum of 180 days, will be completed on or before March 4, 2008.

The FAA's detailed evaluation will be conducted under the provisions of 14 CFR Part 150, section 150.33. The primary considerations in the evaluation process are whether the proposed measures may reduce the level of aviation safety or create an undue burden on interstate or foreign commerce, and whether they are reasonably consistent with obtaining the goal of reducing existing non-compatible land uses and preventing the introduction of additional non-compatible land uses.

Interested persons are invited to comment on the proposed program with specific reference to these factors. All comments relating to these factors, other than those properly addressed to local land use authorities, will be considered by the FAA to the extent practicable. Copies of the Noise Exposure Maps, the FAA's evaluation of the maps, and the proposed Noise Compatibility Program are available for examination at the following locations: Federal Aviation Administration, Atlanta Airports District Office, 1701 Columbia Avenue, Suite 2-260, College Park, Georgia 30337.

Questions may be directed to the individual named above under the heading, FOR FURTHER INFORMATION CONTACT.

Issued in College Park, Georgia, on September 7, 2007.
Scott L. Seritt,
Manager, Atlanta Airports District Office.

[FR Doc. 07-4603 Filed 9-17-07; 8:45 am]

BILLING CODE 4910-13-M